INTERNATIONAL TRADE COMMISSION

[Investigation No. 731-TA-125 (Fifth Review)]

Potassium Permanganate From China

Determination

On the basis of the record ¹ developed in the subject five-year review, the United States International Trade Commission (“Commission”) determines, pursuant to the Tariff Act of 1930 (“the Act”), that revocation of the antidumping duty order would be likely to lead to continuation or recurrence of material injury to an industry in the United States within a reasonably foreseeable time.

¹ The record is defined in § 207.2(f) of the Commission's Rules of Practice and Procedure (19 CFR 207.2(f)).

Background

The Commission instituted this review on February 1, 2021 (86 FR 7743) and determined on May 7, 2021 that it would conduct a full review (86 FR 27477, May 20, 2021). Notice of the scheduling of the Commission's review and of a public hearing to be held in connection therewith was given by posting copies of the notice in the Office of the Secretary, U.S. International Trade Commission, Washington, DC, and by publishing the notice in the Federal Register on June 7, 2021 (86 FR 30256). In light of the restrictions on access to the Commission building due to the COVID-19 pandemic, the Commission conducted its hearing through written testimony and video conference on October 5, 2021. All persons who requested the opportunity were permitted to participate.

The Commission made this determination pursuant to section 751(c) of the Act (19 U.S.C. 1675(c)). It completed and filed its determination in this review on November 29, 2021. The views of the Commission are contained in USITC Publication 5241 (November 2021), entitled Potassium Permanganate from China: Investigation No. 731-TA-125 (Fifth Review).

By order of the Commission.
Issued: November 29, 2021.
William Bishop,
Supervisory Hearings and Information Officer.

[FR Doc. 2021-26220 Filed 12-1-21; 8:45 am]

BILLING CODE 7020-02-P